NATIONAL SCIENCE FOUNDATION

Proposal Review Panel for Ocean Sciences; Notice of Meeting

In accordance with the Federal Advisory Committee Act (Pub. L. 92-463, as amended), the National Science Foundation announces the following meeting.

Name: California Current Ecosystem LTER Site Review, Proposal Review Panel for Ocean Sciences (10752).

Date and Time:

Sept 16, 2007; 4 p.m.-8 p.m.

Sept 17, 2007; 8 a.m.-7 p.m.

Sept 18, 2007; 8 a.m.-6 p.m.

Place: Scripps Institution of Oceanography, La Jolla, CA.

Type of Meeting: Partially closed.

Contact Person: Dr. Henry Gholz, Division of Environmental Biology, National Science Foundation, 4201 Wilson Blvd., Arlington, VA 22230. Telephone (703) 292-8481.

Purpose of Meeting: Formal third-year review of the California Current Ecosystem Long-Term Ecological Research project.

Agenda:

Sunday 16 Sept. 2007

4 p.m.-8 p.m. NSF Briefing of the Review Team at Hotel (closed)

Monday 17 Sept. 2007 at Scripps

8 a.m.-4 p.m. CCE-LTER Project Introduction (open)

Overview and Evolution/Partnerships

Research Presentations (talks 20 min + questions 5 min)

Education and Outreach

Information Management

Site Management

4 p.m.-6:45 p.m. Reception and Student Posters (open)

Meet with graduate students and post-docs

7 p.m. Dinner locally (open); review team separate working dinner (closed)

Tuesday 18 Sept. 2007

8 a.m.-8:30 a.m. Review Team assemble for initial feedback and questions (closed)

9 a.m.-11 a.m. Meetings with SIO Adminstration (closed)

1 p.m.-4:15 p.m. Review Team Report Work Session (closed)

4:30 p.m.-5:55 p.m. Report—out by Review Team (closed)

6 p.m. Adjourn

Reason for Closing: During closed sessions the review will include information of a confidential nature, including technical and financial information. These matters are exempt under 5 U.S.C. 552b(c), (4) and (6) of the Government in The Sunshine Act.

Dated: August 7, 2007.
Susanne Bolton,
Committee Management Officer.

[FR Doc. E7-15624 Filed 8-9-07; 8:45 am]

BILLING CODE 7555-01-P